COMMISSION ON CIVIL RIGHTS

Notice of Public Meeting of the Indiana Advisory Committee to the U.S. Commission on Civil Rights To Hear Testimony Regarding Civil Rights Concerns Relating to School Disciplinary Policies and Their Potential Impact on Disparities in Juvenile Incarceration in Indiana

AGENCY: U.S. Commission on Civil Rights.

ACTION: Announcement of meeting.

SUMMARY: Notice is hereby given, pursuant to the provisions of the rules and regulations of the U.S. Commission on Civil Rights (Commission) and the Federal Advisory Committee Act that the Indiana Advisory Committee (Committee) will hold a meeting on Wednesday, January 20, 2016, at 11:00 a.m. EST for the purpose of hearing testimony regarding civil rights concerns relating to school discipline and juvenile incarceration in Indiana.

This meeting will take place via web conference and is open to the public. The audio portion of the meeting is available toll-free at: 888-417-8533, conference ID: 2138345 (audio only). Any interested member of the public may call this number and listen to the meeting. The conference call operator will ask callers to identify themselves, the organization they are affiliated with (if any), and to provide an email address prior to placing callers into the conference room. Callers will incur regular charges for calls they initiate over wireless lines, according to their wireless plan. The Commission will not refund any incurred charges. Callers will incur no charge for calls they initiate over land-line connections to the toll-free telephone number. Persons with hearing impairments may also follow the proceedings by first calling the Federal Relay Service at 1-800-977-8339 and providing the Service with the conference call number and conference ID number.

Members of the public may also register for online access to the meeting at the following link: https://cc.readytalk.com/r/kwf2s53iu6ux&eom (visual only). The public is invited and welcomed to make statements during the open comment period at 12:10 p.m. In addition, members of the public may submit written comments; the comments must be received in the regional office within 30 days following the meeting. Written comments may be mailed to the Midwestern Regional Office, U.S. Commission on Civil Rights, 55 W. Monroe St., Suite 410, Chicago, IL 60615. They may also be faxed to the Commission at (312) 353-8324, or emailed to Carolyn Allen at callen@usccr.gov.

Records and documents discussed during the meeting will be accessible for public viewing at https://database.faca.gov/committee/committee.aspx?cid=247&aid=17, as they become available. Click on the “Meeting Details” and “Documents” to download. Records generated from this meeting may also be inspected and reproduced at the Regional Programs Unit, as they become available, both before and after the meeting.

A full-day in person hearing on this topic will follow in Indianapolis, IN in March of 2016. Persons who desire additional information may contact the Midwestern Regional Office at (312) 353-8311. Persons interested in the work of this Committee are also directed to the Commission's Web site, http://www.usccr.gov, or may contact the Midwestern Regional Office at the above email or street address.

Agenda

Welcome and Introductions

11 a.m. to 11:05 a.m.

Panel Presentations on the School to Prison Pipeline in Indiana

11:05 a.m. to 11:50 a.m.

Question and Answer Session with IN Advisory Committee

11:50 a.m. to 12:10 p.m.

Open Comment

12:10 p.m. to 12:25 p.m.

Closing Remarks and Adjournment

12:30 p.m.

DATES: The meeting will be held on Wednesday, January 20, 2016, at 10:00 a.m. EST.

Public Call Information

Dial: 888-417-8533

Conference ID: 2138345

FOR FURTHER INFORMATION CONTACT: Melissa Wojnaroski, DFO, at 312-353-8311 or mwojnaroski@usccr.gov.

Dated: December 7, 2015.
David Mussatt,
Chief, Regional Programs Unit.

[FR Doc. 2015-31137 Filed 12-9-15; 8:45 am]

BILLING CODE 6335-01-P